DEPARTMENT OF COMMERCE

National Oceanic and Atmospheric Administration

Notice of Availability for Public Comment of the Reserve Operations Plan for the Northwestern Hawaiian Islands Coral Reef Ecosystem Reserve

AGENCY: National Marine Sanctuary Program (NMSP), National Ocean Service (NOS), National Oceanic and Atmospheric Administration (NOAA), Department of Commerce (DOC).

ACTION: Notice.

SUMMARY: On December 4, 2000, Executive Order 13178 established the Northwestern Hawaiian Islands Coral Reef Ecosystem Reserve, pursuant to the National Marine Sanctuaries Amendments Act of 2000 (Pub. L. 106-513, section 6g, November 13, 2000, 114 Stat. 2385). The Reserve extends approximately 1200 nautical miles long and 100 nautical miles wide. Pursuant to the Executive Order, NOAA prepared a Draft Reserve Operations Plan (ROP) that focuses on priority issues and actions. The Draft ROP also provides a guide for management of the Reserve during a process that will consider designating the Northwestern Hawaiian Islands as a National Marine Sanctuary.

The Draft ROP was released in March 2002 for an extensive public review. All comments were considered, and necessary and appropriate changes were made to the document. The draft Final ROP was developed in cooperation with the State of Hawaii and the U.S. Fish and Wildlife Service with significant and extensive input from the Reserve Advisory Council.

This notice announces the availability of the draft Final ROP for public review. Given the amount of time since the initial public review, NOAA is releasing the draft Final ROP until May 15, 2004, during which time public comment will be accepted. After the close of the comment period, NOAA will consider the comments received and may make changes, if appropriate. NOAA anticipates releasing the Final ROP by Summer 2004.

DATES AND ADDRESSES: The public review starts March 19, 2004, and ends on May 15, 2004. Written comments may be sent to NWHI Coral Reef Ecosystem Reserve, 6700 Kalaniana'ole Highway, #215, Honolulu, Hawaii 96825; faxed to (808) 397-2662; or e-mailed to nwhi@noaa.gov. Comments will be available for public review at the office address above.

FOR FURTHER INFORMATION CONTACT: Robert P. Smith, (808) 933-8181, nwhi@noaa.gov.

Authority: 16 U.S.C. Section 1431 et seq., Pub. L. 106-513.

(Federal Domestic Assistance Catalog Number 11.429 Marine Sanctuary Program)
Dated: March 8, 2004.
Jamison S. Hawkins,
Deputy Assistant Administrator for Ocean Services and Coastal Zone Management, National Oceanic and Atmospheric Administration.

[FR Doc. 04-6174 Filed 3-18-04; 8:45 am]

BILLING CODE 3510-08-M